SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: October 1, 2012, through November 30, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals by Rule Issued Under 18 CFR 806.22(e)

1. Cinram Group, Inc., Olyphant, Pa. Facility, ABR-201211001, Borough of Olyphant, Lackawanna County, Pa.; Consumptive Use of Up to 0.200 mgd; Approval Date: November 5, 2012.

Approvals by Rule Issued Under 18 CFR 806.22(f)

1. Chesapeake Appalachia LLC, Pad ID: Hare Ridge, ABR-201210001, Rush Township, Susquehanna County, Pa.; Consumptive Use of Up to 7.500 mgd; Approval Date: October 2, 2012.

2. Cabot Oil & Gas Corporation, Pad ID: AldrichL P1, ABR-201210002, Gibson Township, Susquehanna County, Pa.; Consumptive Use of Up to 3.575 mgd; Approval Date: October 3, 2012.

3. Cabot Oil & Gas Corporation, Pad ID: RutkowskiB P1, ABR-201210003, Lenox Township, Susquehanna County, Pa.; Consumptive Use of Up to 3.575 mgd; Approval Date: October 3, 2012.

4. Cabot Oil & Gas Corporation, Pad ID: BrayB P1, ABR-201210004, Auburn Township, Susquehanna County, Pa.; Consumptive Use of Up to 3.575 mgd; Approval Date: October 3, 2012.

5. WPX Energy Appalachia, LLC, Pad ID: Reber—Dozier Well Pad, ABR-201210005, Liberty Township, Susquehanna County, Pa.; Consumptive Use of Up to 4.000 mgd; Approval Date: October 3, 2012.

6. Chief Oil & Gas LLC, Pad ID: T. Brown Drilling Pad, ABR-201210006, Lemon Township, Wyoming County, Pa.; Consumptive Use of Up to 2.000 mgd; Approval Date: October 9, 2012.

7. Chesapeake Appalachia LLC, Pad ID: Ramsher, ABR-201210007, Terry Township, Bradford County, Pa.; Consumptive Use of Up to 7.500 mgd; Approval Date: October 9, 2012.

8. XTO Energy Incorporated, LLC, Pad ID: West Brown A, ABR-201210008, Moreland Township, Lycoming County, Pa.; Consumptive Use of Up to 4.500 mgd; Approval Date: October 12, 2012.

9. EOG Resources, Inc., Pad ID: WARD B Pad, ABR-201210009, Springfield Township, Bradford County, Pa.; Consumptive Use of Up to 5.000 mgd; Approval Date: October 15, 2012.

10. EOG Resources, Inc., Pad ID: KLINE A Pad, ABR-201210010, Springfield Township, Bradford County, Pa.; Consumptive Use of Up to 5.000 mgd; Approval Date: October 15, 2012.

11. EOG Resources, Inc., Pad ID: KLINE B Pad, ABR-201210011, Springfield Township, Bradford County, Pa.; Consumptive Use of Up to 5.000 mgd; Approval Date: October 15, 2012.

12. Chief Oil & Gas LLC, Pad ID: Tague West Drilling Pad, ABR-201210012, Lemon Township, Wyoming County, Pa.; Consumptive Use of Up to 2.000 mgd; Approval Date: October 16, 2012.

13. Chief Oil & Gas LLC, Pad ID: Teeter Drilling Pad, ABR-201210013, Smithfield Township, Bradford County, Pa.; Consumptive Use of Up to 2.000 mgd; Approval Date: October 16, 2012.

14. EOG Resources, Inc., Pad ID: PLOUSE A Pad, ABR-201210014, Ridgebury Township, Bradford County, Pa.; Consumptive Use of Up to 5.000 mgd; Approval Date: October 19, 2012.

15. EOG Resources, Inc., Pad ID: GRIPPIN A Pad, ABR-201210015, Springfield Township, Bradford County, Pa.; Consumptive Use of Up to 5.000 mgd; Approval Date: October 19, 2012.

16. EOG Resources, Inc., Pad ID: KINGSLY E Pad, ABR-201210016, Springfield Township, Bradford County, Pa.; Consumptive Use of Up to 5.000 mgd; Approval Date: October 19, 2012.

17. WPX Energy Appalachia, LLC, Pad ID: Bolles South Drilling Pad, ABR-201210017, Franklin Township, Susquehanna County, Pa.; Consumptive Use of Up to 4.000 mgd; Approval Date: October 26, 2012.

18. Chief Oil & Gas LLC, Pad ID: Mehalick Drilling Pad, ABR-201210018, Cherry Township, Sullivan County, Pa.; Consumptive Use of Up to 2.000 mgd; Approval Date: October 26, 2012.

19. WPX Energy Appalachia, LLC, Pad ID: Nota Well Pad, ABR-201210019, Franklin Township, Susquehanna County, Pa.; Consumptive Use of Up to 4.000 mgd; Approval Date: October 29, 2012.

20. Cabot Oil & Gas Corporation, Pad ID: DeluciaR P1, ABR-201211002, Harford Township, Susquehanna County, Pa.; Consumptive Use of Up to 3.575 mgd; Approval Date: November 9, 2012.

21. Chesapeake Appalachia, LLC, Pad ID: Molly J, ABR-201211003, Monroe and Overton Townships, Bradford County, Pa.; Consumptive Use of Up to 7.500 mgd; Approval Date: November 16, 2012.

22. Chesapeake Appalachia, LLC, Pad ID: Slattery, ABR-201211004, Cherry Township, Sullivan County, Pa.; Consumptive Use of Up to 7.500 mgd; Approval Date: November 16, 2012.

23. Anadarko E&P Company LP, Pad ID: Terry D. Litzelman Pad A, ABR-201211005, Cogan House Township, Lycoming County, Pa.; Consumptive Use of Up to 4.000 mgd; Approval Date: November 16, 2012.

24. Anadarko E&P Company LP, Pad ID: Larry's Creek F&G Pad F, ABR-201211006, Cummings Township, Lycoming County, Pa.; Consumptive Use of Up to 4.000 mgd; Approval Date: November 16, 2012.

25. Cabot Oil & Gas Corporation, Pad ID: EmpetD P1, ABR-201211007, Harford Township, Susquehanna County, Pa.; Consumptive Use of Up to 3.575 mgd; Approval Date: November 20, 2012.

26. Cabot Oil & Gas Corporation, Pad ID: WoodE P1, ABR-201211008, Dimock Township, Susquehanna County, Pa.; Consumptive Use of Up to 3.575 mgd; Approval Date: November 20, 2012.

27. Cabot Oil & Gas Corporation, Pad ID: McLeanD P1, ABR-201211009, Lathrop Township, Susquehanna County, Pa.; Consumptive Use of Up to 3.575 mgd; Approval Date: November 20, 2012.

28. Chesapeake Appalachia, LLC, Pad ID: Kupetsky, ABR-201211010, Nicholson Township, Wyoming County, Pa.; Consumptive Use of Up to 7.500 mgd; Approval Date: November 28, 2012.

29. EXCO Resources (PA), LLC, Pad ID: COP Tract 727 (Pad 3), ABR-201211011, Gallagher Township, Clinton County, Pa.; Consumptive Use of Up to 8.000 mgd; Approval Date: November 28, 2012.

30. EXCO Resources (PA), LLC, Pad ID: Short Mountain Pad 1, ABR-201211012, Watson Township, Lycoming County, Pa.; Consumptive Use of Up to 8.000 mgd; Approval Date: November 28, 2012.

31. Southwestern Energy Production Company, Pad ID: SHELDON EAST PAD, ABR-201211013, Thompson Township, Susquehanna County, Pa.; Consumptive Use of Up to 4.999 mgd; Approval Date: November 30, 2012.

32. Southwestern Energy Production Company, Pad ID: LOKE PAD, ABR-201211014, New Milford Township, Susquehanna County, Pa.; Consumptive Use of Up to 4.999 mgd; Approval Date: November 30, 2012.

33. Southwestern Energy Production Company, Pad ID: HARRIS PAD, ABR-201211015, Harford Township, Susquehanna County, Pa.; Consumptive Use of Up to 4.999 mgd; Approval Date: November 30, 2012.

34. Cabot Oil & Gas Corporation, Pad ID: HordisC P1, ABR-201211016, Lathrop Township, Susquehanna County, Pa.; Consumptive Use of Up to 3.575 mgd; Approval Date: November 30, 2012.

35. Cabot Oil & Gas Corporation, Pad ID: LoffredoJ P1, ABR-201211017, Nicholson Township, Wyoming County, Pa.; Consumptive Use of Up to 3.575 mgd; Approval Date: November 30, 2012.

36. Chesapeake Appalachia, LLC, Pad ID: Amcor, ABR-201211018, Meshoppen Township, Wyoming County, Pa.; Consumptive Use of Up to 7.500 mgd; Approval Date: November 30, 2012.

37. Chesapeake Appalachia, LLC, Pad ID: Joequswa, ABR-201211019, Cherry Township, Sullivan County, Pa.; Consumptive Use of Up to 7.500 mgd; Approval Date: November 30, 2012.

Authority: Pub. L. 91-575, 84 Stat. 1509 et seq., 18 CFR parts 806, 807, and 808.

Dated: December 31, 2012.
Stephanie L. Richardson,
Secretary to the Commission.

[FR Doc. 2013-00300 Filed 1-9-13; 8:45 am]

BILLING CODE 7040-01-P